DEPARTMENT OF DEFENSE

Department of the Air Force

[AFD-1117]

Notice of Intent To Grant a Partially Exclusive Patent License

AGENCY: Department of Defense, Department of the Air Force.

ACTION: Notice of intent.

SUMMARY: Pursuant to the Bayh-Dole Act and implementing regulations, the Department of the Air Force hereby gives notice of its intent to grant a partially exclusive (exclusive with respect to the field of chromium-doped zinc-nitro-antimony-gallium-tellurium infrared phosphors) patent license agreement to Battle Sight Technologies, LLC, a corporation of the State of Ohio, having a place of business at 714 E. Monument Ave. Suite 120, Dayton, OH 45402.

DATES: Written objections must be filed no later than fifteen (15) calendar days after the date of publication of this Notice.

ADDRESSES: Submit written objections to the Air Force Materiel Command Law Office, Timothy Barlow, AFMCLO/JAZ, 2240 B Street, Room 260, Wright-Patterson AFB, OH 45433- 7109; Phone: (937) 904-5760; Facsimile: (937) 255-3733; or Email: afmclo.jaz.tech@us.af.mil. Include Docket No. AFD-1117 in the subject line of the message.

FOR FURTHER INFORMATION CONTACT: Air Force Materiel Command Law Office, Timothy Barlow, AFMCLO/JAZ, 2240 B Street, Rm. 260, Wright-Patterson AFB, OH 45433-7109; Facsimile: (937) 255-3733; Email: afmclo.jaz.tech@us.af.mil.

SUPPLEMENTARY INFORMATION: The Department of the Air Force intends to grant the partially exclusive patent license agreement for the invention described in:

—U.S. Patent Application Serial No. 12/862,869, filed 25 August 2010, corresponding to U.S. Patent No. 7,976,727 issued on 12 July 2011.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Carlinda N. Lotson,
Acting Air Force Federal Register Liaison Officer.

[FR Doc. 2019-08810 Filed 5-6-19; 8:45 am]

BILLING CODE 5001-10-P